DEPARTMENT OF ENERGY

Federal Energy Regulatory Commission

[Docket No. CP07-396-000]

Gulf South Pipeline Company, LP; Notice of Request Under Blanket Authorization

June 18, 2007.

Take notice that on June 8, 2007, Gulf South Pipeline Company, LP (Gulf South), 9 Greenway Plaza, Suite 2800, Houston, Texas 77046, filed in Docket No. CP07-396-000, a prior notice request pursuant to sections 157.205 and 157.208 of the Federal Energy Regulatory Commission's regulations under the Natural Gas Act for authorization to construct, own, and operate two new compressor stations on its existing natural gas transmission pipeline facilities in Mobile County, Alabama, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Specifically, Gulf South proposes to construct, own, operate, and maintain two new compressor stations, the Whistler Junction Compressor Station (Whistler Junction) and the Airport Junction Compressor Station (Airport Junction) in Mobile County, Alabama, to satisfy the growing demand for natural gas in the Southeastern United States. These compressor stations are designed to deliver, on a firm basis, 250,000 Dth per day to Gulfstream Natural Gas System, L.L.C. (Gulfstream), an interstate pipeline, at an existing interconnect near Coden, Alabama in Mobile County. Whistler Junction will consist of one 4,680 horsepower Solar Centaur 40-4700S turbine engine equipped with Solar's “SoLoNOX” system. Airport Junction will consist of one 4,735 horsepower Caterpillar G3616 TALE reciprocating engine equipped with a low-NOX burner system. A new office and controls building will also be constructed. No wetlands are impacted by the project. All construction will be contained within Gulf South's property. Gulf South will finance the facilities with funds on hand. The estimated cost of the facilities is $22,985,103.

Any questions regarding the application should be directed to J. Kyle Stephens, Vice President, Regulatory Affairs, Gulf South Pipeline Company, LP, 20 East Greenway Plaza, Suite 1000, Houston Texas 77046, or call at (713) 479-8033.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E7-12182 Filed 6-22-07; 8:45 am]

BILLING CODE 6717-01-P